DEPARTMENT OF STATE

[Public Notice 6447]

Public Hearings on Study of Critical Sources of Phosphorus Loadings to Missisquoi Bay

The International Joint Commission (the Commission) will launch its study of phosphorus loadings to Missisquoi Bay on Lake Champlain by holding public hearings, at the times and locations listed below.

In August of this year, the Canadian and United States federal governments asked the Commission to help them coordinate initiatives in both countries to reduce phosphorus loadings to Missisquoi Bay. Recognizing the recent advances made by the Province of Quebec, the governments asked the Commission to help develop complementary measures in the U.S. portion of the basin, in close partnership with the Lake Champlain Basin Program.

In October, the Commission appointed the International Missisquoi Bay Study Board to help it carry out this request. The public is invited to meet the members of the Study Board and provide comments on sources of phosphorus loadings and any other matters that the Study Board should consider.

The hearings will be held at the following times and locations:

December 15, 2008, 7 p.m. to 9 p.m., Village of Swanton Office, 120 First Street, Swanton, Vermont.

December 16, 2008, 7 p.m. to 9 p.m., Centre des loisirs, 1 Tourangeau Street, Saint-Georges-de-Clarenceville, Quebec.

Written comments may also be submitted for receipt by January 5, 2009, at either address below:

U.S. Section Secretary, International Joint Commission, 2401 Pennsylvania Avenue, NW.

Canadian Section Secretary, International Joint Commission, 234 Laurier Avenue, NW.

4th Floor, Washington, DC 20440, Fax: 202-254-4562, E-mail: Commission@washington.ijc.org.

22nd Floor, Ottawa, Ontario K1P 6K6, Fax: 613-993-5583, E-mail: Commission@ottawa.ijc.org.

The International Joint Commission is an international Canada-United States organization established by the Boundary Waters Treaty of 1909. It assists the governments in managing waters along the border for the benefit of both countries in a variety of ways including examining issues referred to it by the two federal governments.

The full text of the letter of reference from the governments to the Commission and the directive from the Commission to its Study Board may be found on the Commission's Web site at http://www.ijc.org.

Dated: December 3, 2008.
Charles A. Lawson,
Secretary, United States Section, International Joint Commission, Department of State.

[FR Doc. E8-29212 Filed 12-9-08; 8:45 am]

BILLING CODE 4710-14-P